DEPARTMENT OF HOMELAND SECURITY

Federal Emergency Management Agency

[Docket ID: FEMA-2009-0001]

Agency Information Collection Activities: Proposed Collection; Comment Request

AGENCY: Federal Emergency Management Agency, DHS.

ACTION: Notice; 60-day notice and request for comments; revision of a currently approved information collection; OMB No. 1660-0085; No Form.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning the Crisis Counseling Assistance and Training Program for Immediate Services which provides funding in response to a State's request for crisis counseling services for a Presidentially-declared disaster.

DATES: Comments must be submitted on or before September 15, 2009.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation and Policy Team, DHS/FEMA, 500 C Street, SW., Room 835, WASH, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Carmen Mendoza, Program Specialist, DAD-IA, (202) 212-1119 for additional information. You may contact the Records Management Branch for copies of the proposed collection of information at facsimile number (202) 646-3347 or e-mail address: FEMA-Information-Collections@dhs.gov.

SUPPLEMENTARY INFORMATION: Section 416 of the Robert T. Stafford Disaster Relief and Emergency Assistance Act (the Act), Public Law 93-288, as amended, authorizes the President to provide financial assistance to State and local governments for professional counseling services to survivors of major disasters in order to relieve mental health problems caused by or aggravated by a major disaster or its aftermath. Under the provisions of Section 416 of the Act, FEMA issued the Crisis Counseling Assistance and Training Regulations (44 CFR 206.171). Section 416 of the Act is the authority under which the President has designated the Department of Health and Human Services, through the Center for Mental Health Services (CMHS), to coordinate with FEMA in administering the Crisis Counseling Assistance and Training Program (CCP). FEMA and CMHS, Substance Abuse and Mental Health Services Administration, Department of Health and Human Services have signed an interagency agreement under which CMHS provides technical assistance and consultation to States applying for CCP funding.

Collection of Information

Title: Crisis Counseling Assistance and Training Program—Immediate Services Program.

Type of Information Collection: Revision of a currently approved information collection.

OMB Number: 1660-0085.

Form Titles and Numbers: None.

Abstract: The Crisis Counseling Program includes a specific disaster program entitled Immediate Services Program (ISP). The Immediate Services Program provides for funding in response to a State request for the period immediately following a Presidentially-declared disaster, and includes community outreach, consultation and public education, and counseling techniques. State Disaster Mental Health Coordinators will provide this information for consideration of funding to provide such services.

Affected Public: State, Local or Tribal Government.

Estimated Total Annual Burden Hours: 1,230.

Table A.12—Estimated Annualized Burden Hours and Costs
Type of respondent | Form name/Form number | No. of respondents | No. of responses per respondent | Avg. burden per response (in hours) | Total annual burden (in hours) | Avg. hourly wage rate* | Total annual respondent cost
State Disaster Mental Health Coordinator | CCP/ISP application and training | 15 | 1 | 72 | 1080 | $55.30 | $59,724.00
State Disaster Mental Health Coordinator | Final Report Narrative | 15 | 1 | 10 | 150 | 55.30 | 8,295.00
Total |  |  |  |  | 1,230 |  | $68,019.00

Estimated Cost: There is no annual reporting and recordkeeping cost associated with this collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: July 10, 2009.
Tammi Hines,
Acting Director, Records Management Division, Office of Management, Federal Emergency Management Agency, Department of Homeland Security.

[FR Doc. E9-17057 Filed 7-16-09; 8:45 am]

BILLING CODE 9111-23-P